DEPARTMENT OF AGRICULTURE

Animal and Plant Health Inspection Service

[Docket No. APHIS-2021-0073]

Notice of Request for Revision to and Extension of Approval of an Information Collection; Cooperative State-Federal Brucellosis Eradication Program

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the Cooperative State-Federal Brucellosis Eradication Program.

DATES: We will consider all comments that we receive on or before February 25, 2022.

ADDRESSES: You may submit comments by either of the following methods:

• Federal eRulemaking Portal: Go to www.regulations.gov. Enter APHIS-2021-0073 in the Search field. Select the Documents tab, then select the Comment button in the list of documents.

• Postal Mail/Commercial Delivery: Send your comment to Docket No. APHIS-2021-0073, Regulatory Analysis and Development, PPD, APHIS, Station 3A-03.8, 4700 River Road Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the Cooperative State-Federal Brucellosis Eradication Program, contact Dr. P. Ryan Clarke, Senior Staff Veterinarian, Ruminant Health Center, Strategy and Policy, Veterinary Services, APHIS, Bozeman, MT; (406) 539-6899; patrick.r.clarke@usda.gov. For more information on the information collection reporting process, contact Mr. Joseph Moxey, APHIS' Paperwork Reduction Act Coordinator, at (301) 851-2483; joseph.moxey@usda.gov.

SUPPLEMENTARY INFORMATION: Title: Cooperative State-Federal Brucellosis Eradication Program.

OMB Control Number: 0579-0047.

Type of Request: Revision to and extension of approval of an information collection.

Abstract: The Animal Health Protection Act (7 U.S.C. 8301 et seq.) of 2002 is the primary Federal law governing the protection of animal health. The law gives the Secretary of Agriculture broad authority to detect, control, or eradicate pests or diseases of livestock or poultry. The Secretary may also prohibit or restrict import or export of any animal or related material if necessary, to prevent the spread of any livestock or poultry pest or disease.

Disease prevention and disease surveillance are the most effective methods for maintaining a healthy animal population and for enhancing the United States' ability to compete in the world market of animal and animal product trade. Veterinary Services (VS) within the U.S. Department of Agriculture's (USDA's) Animal and Plant Health Inspection Service (APHIS) is responsible for administering regulations intended to protect the health of the U.S. livestock population.

Brucellosis is an infectious disease of animals and humans caused by bacteria of the genus Brucella. The disease is characterized by abortions and impaired fertility in its principal animal hosts. The disease infects humans through contact with infected animals or with certain body fluids of infected animals. Usually Brucella abortus is associated with the disease in cattle or bison, Brucella suis with the disease in swine, and Brucella melitensis with the disease in sheep and goats. The continued presence of brucellosis in a herd seriously threatens the health, welfare, and economic viability of the livestock industry. There is no economically feasible treatment for brucellosis in livestock.

The Cooperative State-Federal Brucellosis Eradication Program is a national program to eliminate this serious disease of livestock. The program is conducted under the authority of the various States and supplemented by Federal authorities regulating interstate movement of infected animals. Regulations in 9 CFR part 78 outline the Cooperative State-Federal Brucellosis Eradication Program. The regulations include required surveillance, epidemiological investigation, annual reporting, and interstate movement activities that must be documented.

Minimum program standards known as the Brucellosis Eradication Uniform Methods and Rules (UM&R) have been developed cooperatively by organizations representing the livestock industry, State animal health agencies, and the USDA. State and Federal officials in charge of program activities in each State are responsible for continuously evaluating the efficiency of local procedures in locating and eliminating infected livestock. The minimum standards in the UM&R must be met or exceeded throughout the certification period to maintain continuous status. Meeting these standards requires information collection.

Information is generally collected by State and Federal animal health officials through interviews or reviewing records. In addition, the information on some documents may be collected by private veterinary practitioners (i.e., test charts, vaccination records, and official Certificates of Veterinary Inspection) or blood collection personnel on contract (i.e., market cattle slaughter surveillance blood collection forms and brucellosis ring testing milk sample collection forms). The information is collected at the time each appropriate event occurs. In most instances, information is collected when testing or vaccinating individual animals or herds, applying official identification to animals, or conducting surveillance or epidemiological investigation activities. Some events, such as market cattle slaughter surveillance, occur daily. Other events, such as on-farm blood testing and vaccination, occur as part of routine animal health management. A few events, such as infected-herd investigations, occur only a few times a year.

In addition, the bovine brucellosis program regulations in part 78 provide a system for classifying States or portions of States according to the rate of B. abortus infection present and the general effectiveness of a brucellosis control and eradication program. The program also provides for the creation of brucellosis management areas within a State and for testing and movement mitigation activities before regulated animals are permitted to move interstate. This system enhances the ability of States to move healthy, brucellosis-free cattle and bison interstate and internationally. This management area and testing system also enhances the effectiveness of the Brucellosis Eradication Program by decreasing the likelihood that infected animals will be moved interstate or internationally.

The creation of brucellosis management areas allows States that have found B. abortus in wildlife (which are nonregulated animals) to mitigate the risk of transmission and spread of disease while maintaining the State's disease-free status in regulated domestic livestock. The State must sign a memorandum of understanding with the APHIS Administrator that describes its brucellosis management plan. The brucellosis management plan developed by the State must define the geographic brucellosis management area and describe the surveillance and mitigation activities that the State will conduct to identify occurrence of B. abortus in domestic livestock and wildlife and potential risks for spread of the disease.

We are asking Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.26 hours per response.

Respondents: Commercial livestock farm owners and managers; animal agriculture-related business owners and managers; private veterinarians; animal agriculture-related agencies and organizations; breed registry agencies; agriculture extension agents; fair and exhibition officials; owners, operators, and managers of livestock markets; owners, operators, and managers of slaughter establishments and dairy plants; and State animal health officials and laboratory personnel (including wildlife biologists).

Estimated annual number of respondents: 21,568.

Estimated annual number of responses per respondent: 44.

Estimated annual number of responses: 957,102.

Estimated total annual burden on respondents: 247,325 hours. (Due to averaging, the total annual burden hours may not equal the product of the annual number of responses multiplied by the reporting burden per response.)

All responses to this notice will be summarized and included in the request for OMB approval. All comments will also become a matter of public record.

Done in Washington, DC, this 21st day of December 2021.
Mark Davidson,
Acting Administrator, Animal and Plant Health Inspection Service.

[FR Doc. 2021-28018 Filed 12-23-21; 8:45 am]

BILLING CODE 3410-34-P